DEPARTMENT OF TRANSPORTATION

Federal Highway Administration

Environmental Impact Statement, Canyon and Ada Counties, ID I-84, Karcher Interchange to Five Mile Road Environmental Study

AGENCY: Federal Highway Administration (FHWA), DOT.

ACTION: Letter of Project Initiation; Notice of Intent to prepare an Environmental Impact Statement (EIS); and initiation of public and agency scoping for the addition of traffic lanes, interchange configuration improvements, structure widening, structure replacements and pavement reconstruction to Interstate 84 (I-84) from the Karcher Interchange in Canyon County to the Five Mile Road overpass in Ada County, Idaho.

SUMMARY: The FHWA hereby gives notice that it intends to prepare an EIS for the proposed addition of lanes and other reconstruction improvements to approximately 16 miles of I-84 between the Karcher Interchange in Canyon County and Five Mile Road in Ada County, Idaho. The environmental study will evaluate the potential impacts of design alternatives for future construction of the additional lanes and several associated staged improvement projects of this highway segment. This EIS is being prepared and considered in accordance with the National Environmental Policy Act (NEPA) of 1969, regulations of the Council on Environmental Quality (40 CFR parts 1500-1508), and FWHA regulations, guidance and policy.

Anticipated Federal approvals/actions needed for this project to be constructed include permits for Sections 401 and 404 of the Clean Water Act (U.S. Army Corps of Engineers) and compliance with Section 106 of the National Historic Preservation Act.

Cooperating Agencies: There are no cooperating agencies identified for this project.

DATES: Public comments and questions are welcome anytime during the NEPA process and should be directed to the addresses listed below. Additional formal opportunities for public participation after the Public Scoping are tentatively scheduled as follows:

Review and comment of Draft EIS (including a public hearing): Early 2009.

Review of Final EIS: Summer of 2009.

Notices of availability for the Draft EIS, Final EIS and Record of Decision will be provided through direct mail, the Federal Register and other media. Notification also will be sent to Federal, State, local agencies, persons, and organizations that submit comments or questions. Precise schedules and locations for public meetings will be announced in the local news media. Interested individuals and organizations may request to be included on the mailing list for the distribution of meeting announcements and associated information.

FOR FURTHER INFORMATION CONTACT: Edwin Johnson, Field Operations Engineer; Federal Highway Administration, 3050 Lake Harbor Lane, Suite 126, Boise, Idaho 83703, Telephone: (208) 334-9180; or Gwen Smith, GARVEE Public Involvement Coordinator, Idaho Transportation Department, P.O. Box 7129, Boise, Idaho 83707-1129, Telephone: (208) 334-4444.

SUPPLEMENTARY INFORMATION:

Electronic access

An electronic copy of this document may be downloaded using a modem and suitable communications software from the Government Printing Office's Electronic Bulletin Board Service at (202) 512-1661. Internet users may reach the Office of the Federal Register's home page at http://nara.gov/fedreg and the Government Printing Office's database at: http://access.gpo.gov.nara.

Background

The FHWA in cooperation with the Idaho Transportation Department (ITD) will prepare an EIS for the proposed addition of lanes and other staged associated reconstruction improvement projects to approximately 16 miles of I-84 between the Karcher Interchange in Canyon County (Mile Post 33) and Five Mile Road (Mile Post 49) in Ada County, Idaho. These associated projects could include reconstructing existing lanes, reconstructing interchanges at Meridian Road and Garrity Boulevard; replacing seven overpass structures at Five Mile Road, Cloverdale Road, Ten Mile Road, 11th Avenue, Franklin Boulevard, Northwest Boulevard and Karcher Boulevard; ramp modifications at the Eagle Road Interchange, Franklin Boulevard, Meridian Road Interchange, and Karcher Interchange; two railroad structures; and six irrigation/canal structures. Three of these associated projects are currently identified in the Idaho State Transportation Improvement Program (STIP) for District 3, as projects funded through Connecting Idaho GARVEE. These projects are:

• The reconstruction and widening of the existing Garrity overpass to accommodate additional lanes on I-84.

• The reconstruction and widening of I-84 mainline from Franklin Boulevard to the Garrity Road Interchange.

• The reconstruction and widening of the Garrity Interchange to Meridian Interchange.

Another associated project that is anticipated to be added to the 2008 STIP is:

• The reconstruction of the east half of the Franklin Boulevard Interchange.

Additional associated projects have been identified through previous studies, the Community Planning Association of Southwest Idaho (COMPASS) MPO plan and other long range planning documents. These projects have been presented to the public through public meetings, workshops, and publicly distributed documents. These projects are not in the current STIP or may not be programmed for funding at this time, but have been identified as a needed improvement through these studies. These projects are:

• The rehabilitation of the bridge on the eastbound lane of the Karcher Boulevard Interchange.

• The rehabilitation of the I-84, UPRR overpass, westbound lanes.

• Widening I-84 mainline from Eagle Road to the Five Mile Overcrossing at Mile Post 49.

• Widening I-84 mainline from Ten Mile Road to Eagle Road.

• Widening I-84 mainline from Garrity Boulevard to Ten Mile Road.

• The Meridian Road Interchange improvement project.

• Reconstruction of the Garrity Boulevard Interchange.

Notice is hereby given that the public scoping process has been initiated to prepare an EIS that will address the impacts of and alternatives to the proposal. The purpose of the scoping process is to solicit public comment regarding the full spectrum of issues and concerns, including a suitable range of alternatives, and the nature and extent of potential environmental impacts and appropriate mitigation measures that should be addressed in the EIS process. The EIS will examine the short and long-term impacts of a reasonable range of alternatives, including the no action alternative, on the natural, physical, and human environments. The impacts assessment will include, but not be limited to, impacts on wetlands, wildlife; social environment; changes in land use; noise, aesthetics; changes in traffic; and economic impacts. Environmental Justice (as outlined in Executive Order 12898) will also be addressed as part of the impact assessment. The EIS will also examine measures to mitigate adverse impacts resulting from the proposed action.

Comments are being solicited from Federal, State, and local agencies and from private organizations and citizens who have interest in this proposal. Public information meetings, including scoping meetings, will be held in the project area to discuss the potential alignments and alternatives. The draft EIS will be available for public and agency review, and a public hearing will be held to receive comments. Public notice will be given of the time and place of all meetings and hearings.

Comments and/or suggestions from all interested parties are requested, to ensure that the purpose and need for the project, the full range of all issues, and significant environmental issues in particular, are identified and reviewed. Comments or questions concerning this proposed action and/or its EIS should be directed to the FHWA, or ITD at the addresses listed previously.

(Catalog of Federal Domestic Assistance Program Number 20.205, Highway Research, Planning and Construction. The regulations implementing Executive Order 12372 regarding intergovernmental consultation on Federal programs and activities apply to this proposed action)

Authority: 23 U.S.C. 315; 23 CFR 771.123; 49 CFR 1.48.

Peter Hartman,
Idaho Division Administrator, FHWA.

[FR Doc. 07-3464 Filed 7-16-07; 8:45 am]

BILLING CODE 4910-22-M